DEPARTMENT OF DEFENSE

Office of the Secretary

[Transmittal Nos. 12-16]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 12-16 with attached transmittal, policy justification, and Sensitivity of Technology.

Dated: May 4, 2012.
Aaron Siegel,
Alternate OSD Federal Register Liaison Officer, Department of Defense.

BILLING CODE 5001-06-P

BILLING CODE 5001-06-C

Transmittal No. 12-16

Notice of Proposed Issuance of Letter of Offer Pursuant to Section 36(b)(1) of the Arms Export Control Act, as amended

(i) Prospective Purchaser: Singapore.

(ii) Total Estimated Value:

Major Defense Equipment * | $19 million.
Other | 416 million.
Total | 435 million.
* as defined in Section 47(6) of the Arms Export Control Act.

(iii) Description and Quantity or Quantities of Articles or Services under Consideration for Purchase: Follow-on support and services for Singapore's Continental United States (CONUS) detachment PEACE CARVIN V (F-15SG) based at Mountain Home Air Force Base (AFB) for a five-year period. MDE includes: 40 GBU-10 PAVEWAY II Laser Guided Bomb Units, 40 MXU-651/B Air Foil Groups, 84 GBU-12 PAVEWAY II Laser Guided Bomb Units, 84 MXU-650/Bs Air Foil Groups, 124 MAU-169L/Bs Guidance Control Units, and 3 P5 Combat Training System Pods. Also included: Commercial vehicles, publications and technical documentation, tactics manuals and academic instruction, clothing and individual equipment, execution and support of CONUS exercise deployments, airlift and aerial refueling, support equipment, spare and repair parts, repair and return, personnel training and training equipment, U.S. Government and contractor technical and logistics support services, and other related elements of logistical and program support.

(iv) Military Department: Air Force (NDA).

(v) Prior Related Cases, if any: FMS case NAS-$187M-25Mar08, FMS case SAA-$192M-24Feb06, FMS case SAC-$98M-30Oct09.

(vi) Sales Commission, Fee, etc., Paid, Offered, or Agreed To Be Paid: None.

(vii) Sensitivity of Technology Contained in the Defense Article or Defense Services Proposed To Be Sold: None.

(viii) Date Report Delivered to Congress: 30 April 2012.

Policy Justification

Singapore—F-15SG Pilot Training

The Government of Singapore has requested a possible sale of follow-on support and services for Singapore's Continental United States (CONUS) detachment PEACE CARVIN V (F-15SG) based at Mountain Home Air Force Base (AFB) for a five-year period. MDE includes: 40 GBU-10 PAVEWAY II Laser Guided Bomb Units, 40 MXU-651/B Air Foil Groups, 84 GBU-12 PAVEWAY II Laser Guided Bomb Units, 84 MXU-650/Bs Air Foil Groups, 124 MAU-169L/Bs Guidance Control Units, and 3 P5 Combat Training System Pods. Also included: Commercial vehicles, publications and technical documentation, tactics manuals and academic instruction, clothing and individual equipment, execution and support of CONUS exercise deployments, airlift and aerial refueling, support equipment, spare and repair parts, repair and return, personnel training and training equipment, U.S. Government and contractor technical and logistics support services, and other related elements of logistical and program support. The estimated cost is $435 million.

This proposed sale will contribute to the foreign policy and national security of the United States by helping to improve the security of a friendly country that has been, and continues to be, an important force for economic progress in Southeast Asia.

Singapore needs this training and munitions to support its F-15 aircraft. This program will enable Singapore to develop mission-ready and experienced pilots to support its current and future F-15 aircraft inventory. The well-established pilot proficiency training program at Mountain Home Air Force Base will support professional interaction and enhance operational interoperability with U.S. forces.

The proposed sale of this equipment and support will not alter the basic military balance in the region.

There is no prime contractor involved in this proposed sale. There are no known offset agreements proposed in connection with this potential sale.

Implementation of this proposed sale will not require the assignment of any additional U.S. Government and contractor representatives to Singapore.

There will be no adverse impact on U.S. defense readiness as a result of this proposed sale.

Transmittal No. 12-16

Notice of Proposed Issuance of Letter of Offer Pursuant to Section 36(b)(1) of the Arms Export Control Act

Annex

Item No. vii

(vii) Sensitivity of Technology:

1. The GBU-10/12 PAVEWAY II is a laser guidance kit and tail assembly for general purpose bombs. The laser seeker allows the user to select a unique code for use in the multi-laser environment and reduce the probability of interference among multiple weapons. The hardware is Unclassified and the ballistics is Confidential.

2. If a technologically advanced adversary were to obtain knowledge of the specific hardware and software elements, the information could be used to develop countermeasures which might reduce weapon system effectiveness or be used in the development of a system with similar or advanced capabilities.

[FR Doc. 2012-11156 Filed 5-8-12; 8:45 am]

BILLING CODE 5001-06-P